DEPARTMENT OF JUSTICE

Antitrust Division

Notice Pursuant to the National Cooperative Research and Production Act of 1993—Homeland Security Technology Consortium

Notice is hereby given that, on November 2, 2022, pursuant to section 6(a) of the National Cooperative Research and Production Act of 1993, 15 U.S.C. 4301 et seq. (“the Act”), Homeland Security Technology Consortium (“HSTech”), formerly Border Security Technology Consortium (“BSTC”), has filed written notifications simultaneously with the Attorney General and the Federal Trade Commission disclosing changes in its membership. The notifications were filed for the purpose of extending the Act's provisions limiting the recovery of antitrust plaintiffs to actual damages under specified circumstances. Specifically, Bounce Imaging, Buffalo, NY; Consolidated Resource Imaging LLC (CRI), Grand Rapids, MI; InfiNetix, Arnold, MD; LiveView Technologies, Orem, UT; Mainstream Engineering, Rockledge, FL; Mission Driven Research, Inc, Huntsville, AL; T-Rex Solutions LLC, Greenbelt, MD; and ZeroEyes, Inc., Conshohocken, PA, have been added as parties to this venture.

No other changes have been made in either the membership or planned activity of the group research project. Membership in this group research project remains open, and HSTech intends to file additional written notifications disclosing all changes in membership.

On May 30, 2012, HSTech (formerly BSTC) filed its original notification pursuant to Section 6(a) of the Act. The Department of Justice published a notice in the Federal Register pursuant to Section 6(b) of the Act on June 18, 2012 (77 FR 36292).

The last notification was filed with the Department on May 2, 2022. A notice was published in the Federal Register pursuant to section 6(b) of the Act on May 31, 2022 (87 FR 32460).

Suzanne Morris,
Deputy Director, Civil Enforcement Operations, Antitrust Division.

[FR Doc. 2022-25450 Filed 11-21-22; 8:45 am]

BILLING CODE P